DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: September 20, 2017, 10:00 a.m.

PLACE: Room 2C, 888 First Street NE., Washington, DC 20426.

STATUS: Open.

MATTERS TO BE CONSIDERED: Agenda * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1035th Meeting—Regular Meeting
[September 20, 2017 10:00 a.m.]
Item No. | Docket No. | Company
ADMINISTRATIVE
A-1 | AD16-1-000 | Agency Administrative Matters.
A-2 | AD16-7-000 | Customer Matters, Reliability, Security and Market Operations.
ELECTRIC
E-1 | RM16-13-000 | Balancing Authority Control, Inadvertent Interchange, and Facility Interconnection Reliability Standards.
E-2 | RM16-20-000 | Remedial Action Schemes Reliability Standard.
E-3 | RM17-12-000 | Emergency Preparedness and Operations Reliability Standards.
E-4 | ER16-2656-000, ER16-2656-001, ER16-2656-002, ER16-2656-003 | Arizona Public Service Company.
E-5 | ER17-388-000 | SunZia Transmission, LLC.
E-6 | ER16-1564-000 | The AES Corporation.
E-7 | ER17-933-000 | Exelon Generation Company, LLC.
E-8 | EL00-66-021 | Louisiana Public Service Commission and the Council for the City of New Orleans v. Entergy Services, Inc.
E-9 | ER09-1158-000 | Delmarva Power & Light Company.
E-10 | EL17-46-000 | Basin Electric Power Cooperative.
E-11 | ER17-387-001 | Midcontinent Independent System Operator, Inc.
E-12 | ER17-1302-000 | Midcontinent Independent System Operator, Inc.
E-13 | ER17-1303-000 | Midcontinent Independent System Operator, Inc.
E-14 | ER17-1304-000 | Midcontinent Independent System Operator, Inc.
E-15 | ER17-1305-000 | Midcontinent Independent System Operator, Inc.
E-16 | ER17-1332-000 | Midcontinent Independent System Operator, Inc.
E-17 | ER17-1306-000 | PJM Interconnection, L.L.C.
E-18 | OMITTED |
E-19 | ER17-1333-000 | Southwest Power Pool, Inc.
E-20 | ER17-520-000 | Southwest Power Pool, Inc.
E-21 | ER17-772-000, ER17-772-001, ER17-772-002 | Southwest Power Pool, Inc.
E-22 | EL17-34-000 | Alcoa Corporation.
E-23 | ER16-2320-001 | Pacific Gas and Electric Company.
GAS
G-1 | OMITTED. |
G-2 | RP17-349-000 | Black Marlin Pipeline Company.
G-3 | RP17-519-000 | Texas Eastern Transmission, LP.
G-4 | OR13-14-002 | Western Refining Pipeline, LLC.
HYDRO
H-1 | P-12569-014 | Public Utility District No. 1 of Okanogan County, Washington.
H-2 | P-12628-013 | City of Nashua, Iowa.
H-3 | P-2114-289 | Public Utility District No. 2 of Grant County, Washington.
H-4 | P-2197-112, P-2197-113 | Alcoa Power Generating Inc., Cube Yadkin Generation LLC.
H-5 | P-2197-110 | Alcoa Power Generating Inc., Cube Yadkin Generation LLC.
H-6 | P-2114-286, P-2114-287 | Public Utility District No. 2 of Grant County, Washington.

Issued: September 13, 2017.
Nathaniel J. Davis, Sr.,
Deputy Secretary.

A free webcast of this event is available through www.ferc.gov. Anyone with Internet access who desires to view this event can do so by navigating to www.ferc.gov' s Calendar of Events and locating this event in the Calendar.

The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2017-19870 Filed 9-14-17; 11:15 am]

BILLING CODE 6717-01-P